NUCLEAR REGULATORY COMMISSION

[Docket No. 72-8]

Notice of Issuance of Amendment to Materials License SNM-2505, Calvert Cliffs Nuclear Power Plant Independent Spent Fuel Storage Installation

The U.S. Nuclear Regulatory Commission (NRC or the Commission) has issued Amendment No. 5 to Materials License No. SNM-2505 held by Calvert Cliffs Nuclear Power Plant (CCNPP) for the receipt, possession, storage, and transfer of spent fuel at the Calvert Cliffs independent spent fuel storage installation (ISFSI), located in Calvert County, Maryland. The amendment is effective as of the date of issuance.

By application dated July 26, 2001, CCNPP requested an amendment to its ISFSI license to revise Technical Specifications 2.3 to remove the transfer cask drop height limit and Technical Specification 6.3 to revise the semi-annual environmental reporting period to be consistent with the annual reporting requirements of 10 CFR 50.36a(2). This amendment complies with the standards and requirements of the Atomic Energy Act of 1954, as amended (the Act), and the Commission's rules and regulations. The Commission has made appropriate findings as required by the Act and the Commission's rules and regulations in 10 CFR Chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

The Commission has determined that, pursuant to the categorical exclusion provisions of 10 CFR 51.22(c)(10), an environmental assessment need not be prepared in connection with issuance of the amendment.

The NRC maintains an Agencywide Documents Access and Management System (ADAMS), which provides text and image files of NRC's public documents. These documents may be accessed through NRC's Public Electronic Reading Room on the Internet at http://www.nrc.gov/nrc/adams/index.html. If you do not have access to ADAMS or if there are problems in accessing documents located in ADAMS, contact the NRC Public Document Room Reference staff at 1-800-397-4209, 301-415-4737, or by e-mail to pdr@nrc.gov.

Dated at Rockville, Maryland, this 25th day of October 2001.
For the Nuclear Regulatory Commission.
E. William Brach,
Director, Spent Fuel Project Office, Office of Nuclear Material Safety and Safeguards.

[FR Doc. 01-27860 Filed 11-5-01; 8:45 am]

BILLING CODE 7590-01-P